NUCLEAR WASTE TECHNICAL REVIEW BOARD

Board Meeting

The U.S. Nuclear Waste Technical Review Board will hold a hybrid (in-person/virtual) public meeting on March 28, 2023.

Board meeting: March 28, 2023—The U.S. Nuclear Waste Technical Review Board will hold a hybrid (in-person/virtual) public meeting in Orlando, FL, to review information on U.S. Department of Energy (DOE) evaluations of removing commercial spent nuclear fuel (SNF) from commercial nuclear power plants.

Pursuant to its authority under section 5051 of Public Law 100-203, Nuclear Waste Policy Amendments Act (NWPAA) of 1987, the U.S. Nuclear Waste Technical Review Board will hold a hybrid (in-person/virtual) public meeting in Orlando, FL, on Tuesday, March 28, 2023, to review information on U.S. Department of Energy (DOE) evaluations, planning, and preparations for transport of commercial spent nuclear fuel (SNF) from commercial nuclear power plants.

The Board meeting will be held at The Florida Hotel and Conference Center, 1500 Sand Lake Road, Orlando, FL 32809. The hotel telephone number is (407) 859-1500.

The meeting will begin at 8:00 a.m. Eastern Daylight Time (EDT) and is scheduled to adjourn at 5:00 p.m. EDT. Speakers from the DOE Office of Nuclear Energy will describe recent accomplishments and future priorities in DOE's integrated waste management program and its strategy for management and disposal of SNF, including use of a consent-based siting process. DOE speakers will address nuclear power plant infrastructure evaluations for removing commercial SNF, site-specific logistic reports, and Atlas and Fortis railcar developments. There will be a panel discussion providing tribal perspectives on transportation and consent-based siting. A national laboratory speaker will address analysis of as-loaded conditions of storage containers of commercial SNF. A speaker from the U.S. Nuclear Regulatory Commission will present information on regulatory readiness for oversight of large-scale commercial transportation of SNF. A detailed meeting agenda will be available on the Board's website at www.nwtrb.gov approximately one week before the meeting.

The meeting will be open to the public and there will be an opportunity for public comment at the end of each day. Those attending the meeting in person and wanting to provide oral comments are encouraged to sign the Public Comment Register at the check-in table near the entrance to the meeting room. Oral commenters will be taken in the order in which they signed in. Public comments can also be submitted during the meeting via the online meeting viewing platform, using the “Comment for the Record” form. Comments submitted online during each day of the meeting will be read into the record by Board staff during the public comment period just prior to adjournment. Depending on the number of speakers and online comments, a time limit on individual remarks may be set. However, written comments of any length may be submitted to the Board staff by mail or electronic mail. All comments received in writing will be included in the meeting record, which will be posted on the Board's website after the meeting. An archived recording of the meeting will be available on the Board's website following the meeting, and a transcript of the meeting will be available on the website by May 30, 2023.

The in-person public meeting will follow the COVID-19 precautions mandated by the local jurisdiction. Meeting attendees should observe community guidelines in place at the time of the meeting. The Board will post an update on its website if the meeting changes to a virtual-only meeting. Attendees also are encouraged to pre-register to reduce their time signing in. If the meeting changes to a virtual-only format, those who pre-registered will be notified of the change.

The Board was established in the Nuclear Waste Policy Amendments Act of 1987 as an independent federal agency in the Executive Branch to evaluate the technical and scientific validity of DOE activities related to the management and disposal of SNF and HLW, and to provide objective expert advice to Congress and the Secretary of Energy on these issues. Board members are experts in their fields and are appointed to the Board by the President from a list of candidates submitted by the National Academy of Sciences. The Board reports its findings, conclusions, and recommendations to Congress and the Secretary of Energy. All Board reports, correspondence, congressional testimony, and meeting transcripts and related materials are posted on the Board's website.

For information on the meeting agenda, contact Yoonjo Lee at lee@nwtrb.gov or Bret Leslie at leslie@nwtrb.gov. For information on logistics, to pre-register for the in-person meeting, or to request copies of the meeting agenda or transcript, contact Davonya Barnes at barnes@nwtrb.gov. All three may be reached by mail at 2300 Clarendon Boulevard, Suite 1300, Arlington, VA 22201-3367; by telephone at 703-235-4473; or by fax at 703-235-4495.

Dated: March 1, 2023.
Neysa M. Slater-Chandler,
Director of Administration, U.S. Nuclear Waste Technical Review Board.

[FR Doc. 2023-04508 Filed 3-3-23; 8:45 am]

BILLING CODE 6820-AM-P